DEPARTMENT OF AGRICULTURE

Forest Service

Cleveland National Forest, California, SDG&E Master Special Use Permit and Permit To Construct Power Line Replacement Projects EIR/EIS

AGENCY: Forest Service, USDA.

ACTION: Notice of intent to prepare a joint Environmental Impact Report/Environmental Impact Statement.

SUMMARY: Pursuant to section 102(2)(C) of the National Environmental Policy Act of 1969 (NEPA), as amended, notice is hereby given that the Cleveland National Forest (CNF), together with the California Public Utilities Commission (CPUC), intends to prepare a joint Environmental Impact Report and Environmental Impact Statement (EIR/EIS), for the San Diego Gas & Electric Company (SDG&E) Master Special Use Permit and Permit to Construct Power Line Replacement Projects. The Master Special Use Permit would authorize SDG&E to upgrade and/or relocate certain electric powerlines on National Forest System lands, while providing for the operation and maintenance of the SDG&E electric powerline system. The project area is located in multiple locations within the Trabuco, Palomar, and Descanso Ranger Districts, Cleveland National Forest, Orange and San Diego Counties, California. This action is needed because the existing authorizations are expired, and the existing powerlines are needed to supply power to local communities, residents, businesses, and government owned facilities located within and adjacent to the National Forest. The project study area not only traverses National Forest System lands, but due to the patchwork of land ownership in the project study area, also traverses the National System of Public Lands managed by the Bureau of Land Management (BLM); tribal lands of the La Jolla, Campo, Inaja, and Viejas Indian Reservations managed by the respective tribes and held in trust by the Bureau of Indian Affairs (BIA); Cuyamaca Rancho State Park lands managed by California State Parks (CSP); and private holdings within unincorporated San Diego County amongst others.

DATES: All scoping comments must be received by November 7, 2013.

ADDRESSES: You may submit comments to Lisa Orsaba, California Public Utilities Commission, and Will Metz, Forest Supervisor, Cleveland National Forest by either of the following methods:

Email: cnfmsup@dudek.com.

Mail: c/o Dudek, 605 Third Street, Encinitas, California 92024.

FOR FURTHER INFORMATION CONTACT: Information can be requested by leaving a voice message at 866-467-4727 or by checking the project Web site at http://www.cpuc.ca.gov/environment/info/dudek/CNF/CNF.htm.

Individuals who use telecommunication devices for the deaf (TDD) may call the Federal Information Relay Service (FIRS) at 1-800-877-8339 between 8 a.m. and 8 p.m., Eastern Time, Monday through Friday.

SUPPLEMENTARY INFORMATION: In 2005, in consultation with the Forest Service, SDG&E submitted an initial application to obtain a Master Special Use Permit (MSUP). The purpose of the MSUP was to consolidate SDG&E's rights and responsibilities in connection with the continued operation of its electric lines and other existing facilities located within the CNF. As part of the NEPA review process, the Forest Service circulated an Environmental Assessment (EA) for public comment in 2009. In response to public comments received on that EA, the Forest Service determined that additional fire risk reduction measures within the CNF (including fire hardening) and additional undergrounding should be evaluated as part of the MSUP review process and that, as a result, an environmental impact statement (EIS) was required.

SDG&E has expanded the scope of the proposed MSUP to include fire hardening, undergrounding and relocation as proposed in the power line replacement projects discussed in their application to the CPUC. The proposed power line replacement projects will require approval from the CPUC.

The CPUC, Forest Service, BLM, BIA, and CSP have independent jurisdiction and approval authority for the project segments within their areas of jurisdiction. The CPUC is the lead agency under California law and the Forest Service is the lead federal agency. As joint lead agencies, the CPUC and Forest Service have developed and signed a Memorandum of Understanding (January 2012) that will direct the preparation of a joint Environmental Impact Report (EIR) to comply with the California Environmental Quality Act (CEQA) and an Environmental Impact Statement (EIS) to comply with the National Environmental Policy Act (NEPA). The joint document will be called the “SDG&E Master Special Use Permit and Permit to Construct Power Line Replacement Projects EIR/EIS. The BLM and BIA are joining the Forest Service as federal cooperating agencies under NEPA, and the CSP is participating as a responsible agency under CEQA.

Purpose and Need for Action

The Forest Service purpose is to authorize the powerlines and associated facilities needed to continue electric service to a variety of users within and adjacent to the CNF through a Master Special Use Permit in a manner that is consistent with the CNF Land Management Plan (LMP). This action is needed because the 70 individual permits or easements for the existing facilities have expired, and a permit is required for the continued occupancy and use of National Forest System lands.

Permits issued by the Forest Service are required by law to be consistent with the LMP. The LMP identifies suitable uses within various land use zones, describes desired conditions based on the LMP goals and objectives, and sets resource management standards. The Forest Service proposed action is designed to be consistent with the LMP requirements. The Forest Service purpose and need will guide the development of alternatives considered on National Forest System lands.

The BLM purpose is to authorize the powerlines and associated facilities needed to continue electric service to a variety of users within and adjacent to the National System of Public Lands in a manner that is consistent with the South Coast Resource Area Plan. This action is needed because the Right-of-Way (ROW) grants for the existing facilities have expired or were never issued, and a ROW grant is required for the continued occupancy and use of Public Lands.

The BIA purpose is to authorize the powerlines and associated upgrades needed to continue electric service to a variety of users within and adjacent to the Indian trust lands in a manner that is consistent with tribal land use goals and policies. The action is needed to amend the existing easements to include the proposed fire hardening measures and locations and to extend their term.

Proposed Action

The Forest Service proposed action would combine over 70 existing use permits for electric line facilities within the CNF into one MSUP. The MSUP would allow the continued maintenance and operation of more than 50 miles of 69 kV power lines and 12 kV distribution lines and ancillary facilities that are required to operate and maintain existing electric facilities located within the administrative boundary of the CNF. The Project would also replace several existing 69 kV power lines and 12 kV distribution lines located within and outside of the CNF. Replacement would include fire hardening (wood to steel pole replacement), along with removal, relocation, undergrounding and single to double circuit conversion along certain segments. Specific components of the Forest Service proposed action include relocating transmission line (TL) number 626 out of the Cedar Creek undeveloped area, relocating distribution line 79 out of the Sill Hill Inventoried Roadless Area, and relocating distribution line 157 out of the Hauser Wilderness Area. A more detailed description of the proposed action is available in the Notice of Preparation posted on the project Web site.

The BLM proposed action would authorize one electric line and issue new ROW grants for two electric lines, and authorize the fire hardening upgrades. This action includes portions of TL 629, TL 6923, and TL 625.

The BIA proposed action would authorize the fire hardening upgrades and amend the term and location of the existing easements. This action includes portions of TL 629 and TL 682.

Possible Alternatives

The EIR/EIS will describe and evaluate the comparative merits of a reasonable range of alternatives to the proposed action and associated Powerline Replacement Projects. Alternatives to be analyzed in the EIR/EIS will be developed during the environmental review process and will consider input received during scoping, and will include the no action alternative as required by law.

Responsible Official

The Responsible Official for the Forest Service decision is Will Metz, Forest Supervisor, Cleveland National Forest.

The Responsible Official for the BLM decision is John Kalish, Field Manager, Palm Springs South Coast Field Office.

The Responsible Official for the BIA decision is Amy L. Dutschke, Regional Director, BIA Pacific Region.

The Commissioners appointed to the CPUC are the deciding body for the Permit to Construct.

The Responsible Official for the CSP decision is Dan Falat, Colorado Desert District Superintendent.

Nature of Decision To Be Made

Each agency has independent decision authority within their jurisdictional area. The federal responsible officials, as well as the CSP, will decide whether or not to authorize their portions of the project, and if so, under what conditions. The CPUC has independent jurisdiction over power lines and will determine if a Permit to Construct will be issued, and if so, under what conditions.

Preliminary Issues

The Forest Service and CPUC have identified potential issues and impacts to the existing environment require a detailed analysis in the EIR/EIS. Those issues and impacts include aesthetics, air quality, biological resources, cultural and paleontological resources, greenhouse gas emissions, fire, water quality, land use, noise, public services, recreation, wilderness, and transportation. No determinations have yet been made as to the significance of these potential impacts; such determinations will be made in the environmental analysis conducted in the EIR/EIS after the issues are considered thoroughly. This overview is presented to assist the public and agencies in preparing written scoping comments.

Invitation to Cooperating Agencies

The Forest Service invites other federal agencies or tribes to join as cooperating agencies. Requests for cooperating agency status may be submitted to Forest Supervisor Will Metz, Cleveland National Forest, 10845 Rancho Bernardo Road, Suite 200, San Diego, CA 92127-2107.

Scoping Process

The CPUC and Forest Service are initiating the joint CEQA/NEPA scoping process with this Notice of Intent and associated Notice of Preparation. The comments received during scoping will help guide the development of the EIR/EIS. Two public workshops will be held during the scoping process to answer questions about the proposed action. Workshops will be held at the Julian Elementary School, 1704 Cape Horn, Julian, California, on Tuesday, October 22, 2013 at 5:00 p.m., and at the Alpine Community Center, 1830 Alpine Boulevard, Alpine, California, on Wednesday, October 23, 2013 at 5:00 p.m.

It is important that reviewers provide their comments at such times and in such a way that they are useful to the CPUC and Forest Service preparation of the EIR/EIS. Therefore, comments should be provided prior to the close of the comment period and should clearly articulate the reviewer's concerns and contentions.

Comments received during scoping, including names and addresses of those who comment, will be part of the public record for this proposed project. Comments submitted anonymously will be accepted and considered; however, anonymous comments will not provide the respondent with standing to participate in subsequent administrative review or judicial review of the Forest Service decision. This project will follow the predecisional administrative review process pursuant to 36 CFR 218, Subparts A and B.

Dated: September 16, 2013.
William Metz,
Forest Supervisor.

[FR Doc. 2013-22904 Filed 9-20-13; 8:45 am]

BILLING CODE 3410-11-P